DEPARTMENT OF AGRICULTURE

Food and Nutrition Service

Agency Information Collection Activities: Proposed Collection; Comment Request—Child Nutrition Database

AGENCY: Food and Nutrition Service (FNS), U.S. Department of Agriculture.

ACTION: Notice.

SUMMARY: In accordance with the Paperwork Reduction Act of 1995, this notice invites the general public and other public agencies to comment on this proposed information collection. This is a revision of a currently approved collection. This collection is the voluntary submission of data including nutrient data from the food industry to update and expand the Child Nutrition (CN) Database in support of the Child Nutrition Act of 1966. The CN Database is required in nutrient analysis software approved by USDA for use in the school meal programs. The software allows schools participating in the National School Lunch Program (NSLP) and School Breakfast Program (SBP) to analyze meals and measure the compliance of their menus with established nutrition goals and standards specified under these programs.

DATES: Written comments must be received on or before November 30, 2020.

ADDRESSES: Comments may be sent to: Natalie Partridge, Nutritionist, Nutrition, Education, Training and Technical Assistance Division, Child Nutrition Programs, Food and Nutrition Service, United States Department of Agriculture, 1320 Braddock Place, 4th Floor, Alexandria, VA 22314. Comments may also be submitted via email to the attention of Natalie Partridge at cndb-inbox@usda.gov with “CN Database Comments” in the subject line. Comments will also be accepted through the Federal eRulemaking Portal. Go to http://www.regulations.gov and follow the online instructions for submitting comments electronically.

All responses to this notice will be summarized and included in the request for Office of Management and Budget approval. All comments will be a matter of public record.

FOR FURTHER INFORMATION CONTACT: Requests for additional information or copies of the information collection should be directed to Natalie Partridge at (703) 457-6803, or natalie.partridge@usda.gov.

SUPPLEMENTARY INFORMATION: Comments are invited on: (a) Whether the proposed collection of information is necessary for the proper performance of the functions of the Agency, including whether the information will have practical utility; (b) the accuracy of the Agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Child Nutrition Database.

Form Number: FNS-710.

OMB Number: 0584-0494.

Expiration Date: January 31, 2021.

Type of Request: Revision of currently approved collection.

Abstract: The development of the Child Nutrition (CN) Database is regulated by the United States Department of Agriculture (USDA), Food and Nutrition Service. This database is designed to be incorporated in USDA-approved nutrient analysis software and provide an accurate source of nutrient data. The software allows schools participating in the National School Lunch Program (NSLP) and School Breakfast Program (SBP) to analyze meals and measure the compliance of their menus with established nutrition goals and standards specified in 7 CFR 210.10 for the NSLP and 7 CFR 220.8 for the SBP. The information collection for the CN Database is conducted using an outside contractor. The CN Database is updated annually with brand name or manufactured foods commonly used in school food service. To update and expand the CN Database, collection of this information is accomplished by form FNS-710, CN Database Qualification Report. The Food and Nutrition Service's contractor collects this data from the food industry through a spreadsheet version of the FNS-710. The online web tool and paper version have been deleted from the collection because they are no longer used. The online web tool was discontinued due to outdated technology. The paper form was discontinued because no data was submitted by industry using the paper form for many years. The spreadsheet was edited to update terminology and instructions. These changes do not affect the burden for the collection. However, FNS has changed how the frequency and the estimated time per response are determined. Previously the frequency of response (or total annual responses per respondent) was defined as each food item reported (n=1,120) and the hours per response represented the amount of time to report 1 food item (n=2 hours). The current burden defines the frequency of response as the number of times a manufacturer responds per year (1) with the hours adjusted to represent the total hours for the submission (estimated number of food items per manufacturer [35] × 2 hours per food item). As a result, the number of responses for this collection have changed; however, the total overall burden remains the same (estimated 32 manufacturers × 1 response per year × 35 items per manufacturer × 2 hours per item). The submission of data from the food industry will be strictly voluntary, and based on analytical, calculated, or nutrition facts label sources. FNS is currently researching options for modernizing the Child Nutrition Database, including the data collection, compilation, and dissemination of data. FNS is exploring the use of existing data sets and processes to collect nutrient data for food products marketed to schools. The current process is needed until the new process is finalized and in place.

Affected Public: Business or other for-profit (Manufacturers of food produced for schools).

Estimated Number of Respondents: The total estimated number of respondents is 32.

Estimated Number of Responses per Respondent: The estimated number of responses per respondent is 1. Respondents will provide new and updated data on an annual basis.

Estimated Total Annual Responses: 32.

Estimated Time per Response: The estimated time per response 70.0 hours, which represents 2 hours each for an average of 35 food items, and includes time for reviewing instructions, searching existing data sources, gathering and maintaining the data needed, and completing and reviewing the collection of information.

Estimated Total Annual Burden on Respondents: The estimated total annual burden on respondents is 2,240 hours. See the table below for estimated total annual burden for each type of respondent.

Respondent category | Type of respondents (optional) | Instruments | Form | Number of respondents | Frequency of response | Total annual responses | Hours per response | Annual burden (hours)
Business (or other for profit) | Manufacturers of food produced for schools | CN Database Qualification Report (spreadsheet) | FNS-710 | 32 | 1 | 32 | 70 | 2,240.0
Total |  |  |  | 32 | 1 | 32 | 70 | 2,240

Pamilyn Miller,
Administrator, Food and Nutrition Service.

[FR Doc. 2020-21491 Filed 9-28-20; 8:45 am]

BILLING CODE 3410-30-P